DEPARTMENT OF HEALTH AND HUMAN SERVICES

National Institutes of Health

National Institute on Aging; Notice of Meeting

Pursuant to section 1009 of the Federal Advisory Committee Act, as amended, notice is hereby given of a meeting of the Board of Scientific Counselors, NIA.

The meeting will be open to the public as indicated below, with attendance limited to space available. Individuals who plan to attend and need special assistance, such as sign language interpretation or other reasonable accommodations, should notify the Contact Person listed below in advance of the meeting. The open session will be videocast and can be accessed from the NIH Videocasting and Podcasting website (http://videocast.nih.gov/).

The meeting will be closed to the public as indicated below in accordance with the provisions set forth in sections 552b(c)(4) and 552b(c)(6), Title 5 U.S.C., as amended for the review, discussion, and evaluation of individual grant applications conducted by the National Institute On Aging, including consideration of personnel qualifications and performance, and the competence of individual investigators, the disclosure of which would constitute a clearly unwarranted invasion of personal privacy.

Name of Committee: Board of Scientific Counselors, NIA.

Date: October 27-29, 2026.

Closed: October 27, 2026, 8:00 a.m. to 9:00 a.m.

Agenda: Executive Session and Board Business.

Address: National Institutes of Health, Biomedical Research Center, 3rd Floor, Room 3C211/Virtual, 251 Bayview Blvd., Baltimore, MD 21224 (In Person and Virtual Meeting).

Open: October 27, 2026, 9:00 a.m. to 11:45 a.m.

Agenda: Review of Labs and PI's.

Address: National Institute of Aging, 10 Center Drive, Baltimore, MD 21224 (In Person and Virtual Meeting).

Closed: October 27, 2026, 11:45 a.m. to 2:15 p.m.

Agenda: Review of Labs and PI's.

Address: National Institutes of Health, Biomedical Research Center, 3rd Floor, Room 3C211/Virtual, 251 Bayview Blvd., Baltimore, MD 21224 (In Person and Virtual Meeting).

Open: October 27, 2026, 2:15 p.m. to 3:15 p.m.

Agenda: Review of Labs and PI's.

Address: National Institute of Aging, 10 Center Drive, Baltimore, MD 21224 (In Person and Virtual Meeting).

Closed: October 27, 2026, 3:15 p.m. to 5:00 p.m.

Agenda: Review of Labs and PI's; Executive Session; Adjournment.

Address: National Institutes of Health, Biomedical Research Center, 3rd Floor, Room 3C211/Virtual, 251 Bayview Blvd., Baltimore, MD 21224 (In Person and Virtual Meeting).

Closed: October 28, 2026, 8:00 a.m. to 9:00 a.m.

Agenda: Executive Session; Board Business.

Address: National Institutes of Health, Biomedical Research Center, 3rd Floor, Room 3C211/Virtual, 251 Bayview Blvd., Baltimore, MD 21224 (In Person and Virtual Meeting).

Open: October 28, 2026, 9:00 a.m. to 11:00 a.m.

Agenda: Review of Labs and PI's.

Address: National Institute of Aging, 10 Center Drive, Baltimore, MD 21224 (In Person and Virtual Meeting).

Closed: October 28, 2026, 11:00 a.m. to 4:30 p.m.

Agenda: Review of Lab's and PI's; Executive Session; Adjournment.

Address: National Institutes of Health, Biomedical Research Center, 3rd Floor, Room 3C211/Virtual, 251 Bayview Blvd., Baltimore, MD 21224 (In Person and Virtual Meeting).

Closed: October 29, 2026, 8:00 a.m. to 9:00 a.m.

Agenda: Executive Session; Board Business.

Address: National Institutes of Health, Biomedical Research Center, 3rd Floor, Room 3C211/Virtual, 251 Bayview Blvd., Baltimore, MD 21224 (In Person and Virtual Meeting).

Open: October 29, 2026, 9:00 a.m. to 11:00 a.m.

Agenda: Review of Labs and PI's.

Address: National Institute of Aging, 10 Center Drive, Baltimore, MD 21224 (In Person and Virtual Meeting).

Closed: October 29, 2026, 11:00 a.m. to 4:30 p.m.

Agenda: Review of Lab's and PI's; Executive Session; Adjournment.

Address: National Institutes of Health, Biomedical Research Center, 3rd Floor, Room 3C211/Virtual, 251 Bayview Blvd., Baltimore, MD 21224 (In Person and Virtual Meeting).

Contact Person: Luigi Ferrucci, M.D., Ph.D., Scientific Director, National Institute of Aging, National Institutes of Health, 251 Bayview Boulevard, Suite 100, Room 4C225, Baltimore, MD 21224, 410-558-8110, LF27Z@NIH.GOV.

In the interest of security, NIH has procedures at https://security.nih.gov/visitors/Pages/visitor-campus-access.aspx for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

(Catalogue of Federal Domestic Assistance Program Nos. 93.866, Aging Research, National Institutes of Health, HHS)

Dated: August 4, 2025.
Bruce A. George,
Program Analyst, Office of Federal Advisory Committee Policy.

[FR Doc. 2025-14959 Filed 8-6-25; 8:45 am]

BILLING CODE 4140-01-P